DEPARTMENT OF HOUSING AND URBAN DEVELOPMENT

[Docket No. FR-6009-N-06]

Privacy Act of 1974; System of Records: Understanding Rapid Re-Housing Study

AGENCY: Office of Policy Development and Research, HUD.

ACTION: Notice of a new system of records.

SUMMARY: For the Understanding Rapid Re-housing Study, the Department of Housing and Urban Development's (HUD) Office of Policy Development and Research (PD&R) is partnering with an external research team to collect new data to analyze the current status of the rapid re-housing (RRH) programs and the experiences of RRH participants. The project will provide HUD with a deeper understanding of how RRH programs operate and the experiences of households that use them. The Understanding Rapid Re-housing Study will synthesize existing research on RRH programs, extend the analysis of data from the Family Options Study (2016), provide a detailed examination of all rapid re-housing programs nationwide, and conduct qualitative research with a small sample of families and individuals who receive RRH. The study will collect contact information from Continuums of Care (CoCs) for RRH programs, as well as personal information from participating RRH households.

In accordance with the Privacy Act of 1974, HUD/PD&R proposes to establish a new system of records titled, “HUD/Understanding Rapid Re-housing.” This system of records allows HUD/PD&R to collect and maintain records on rapid re-housing program participants who volunteer to participate in the study as well as Continuums of Care and rapid re-housing program staff. This newly established system will be included in HUD's inventory of systems.

DATES: January 25, 2018.

ADDRESSES: Interested persons are invited to submit comments regarding this notice to the Rules Docket Clerk, Office of General Counsel, Department of Housing and Urban Development, 451 Seventh Street SW, Room 10276, Washington, DC 20410. Comments may be filed electronically by accessing: www.regulations.gov. Regulations.gov provides clear instructions on how to submit a public comment on a rule. Communications should refer to the above docket number and title. Faxed comments are not accepted. A copy of each communication submitted will be available for public inspection and copying between 8 a.m. and 5 p.m. weekdays at the above address.

FOR FURTHER INFORMATION CONTACT: For general questions please contact: The Privacy Office, 451 Seventh Street SW, Room 10139, Washington, DC 20410, telephone number 202-708-3054. Individuals who are hearing- and speech-impaired may access this number via TTY by calling the Federal Relay Service at 800-877-8339 (this is a toll-free number).

SUPPLEMENTARY INFORMATION:

I. Background

In accordance with the Privacy Act of 1974, 5 U.S.C. 552a, HUD/PD&R proposes to establish a new HUD system of records titled “HUD/Understanding Rapid Re-housing.”

The new system—the Understanding Rapid Re-housing study—is not required by a new rulemaking being published.

The Understanding Rapid Re-housing (RRH) Study is being conducted by Abt Associates, an independent research firm, under the authority of the Secretary of HUD, through the Office of Policy Development and Research. The study is meant to undertake programs of research, studies, testing, and demonstration related to HUD's mission and programs (12 U.S.C. 1701z-1 et seq.).

This study provides an opportunity to address unanswered questions about RRH assistance and to gain an understanding of the status of RRH programs nationwide, as well as the experiences of RRH participants. At the program level, the new data collection and analysis will assess the current scale of RRH, document the predominant models in place for RRH programs, determine the extent to which programs use progressive engagement service approaches, and examine the way RRH programs function in rental markets with varying costs and vacancy rates.

Researchers will collect program-level data from Continuums of Care (CoCs) and RRH programs via a web-based survey and will subsequently collect further data through in-depth telephone interviews with several RRH programs. This data will be analyzed by Abt Associates and reported to HUD in a final report. Abt study staff will conduct in-person interviews and meetings with 16 RRH program participants. Data from these meetings will be collected via electronic recordings and paper protocols, and analyzed and reported by the researchers in the final report to HUD. All data will be de-identified for reporting purposes, so no person or program will be able to be identified in the final published study.

This study has undergone Institutional Review Board (IRB) and Information Security reviews to identify privacy risks, compliance, and legal risks to HUD.

Consistent with HUD's information-sharing mission, information stored in the HUD/Understanding Rapid Re-housing system may be shared with other HUD components that have a need to know the information to carry out their national security, law enforcement, immigration, intelligence, or other homeland security functions. In addition, information may be shared with appropriate federal, state, local, tribal, territorial, foreign, or international government agencies consistent with the routine uses set forth in this system of records notice.

SYSTEM NAME AND NUMBER:

HUD/Understanding Rapid Re-housing—

SECURITY CLASSIFICATION:

Unclassified.

SYSTEM LOCATION:

Abt Associates, 4550 Montgomery Avenue, Suite 800 North, Bethesda, MD. A list of additional contractor sites where records under this system are maintained is available upon request to the system manager.

SYSTEM MANAGER(S):

Mindy Ault, Social Science Analyst, Program Evaluation Division, U.S. Department of Housing and Urban Development, 451 7th St. SW, Room 8120, Washington, DC 20410.

AUTHORITY FOR MAINTENANCE OF THE SYSTEM:

The authority for the collection of the data and the maintenance of this system can be found at Sec. 501, 502, Housing and Urban Development Act of 1970 (Pub. L. 91-609), 12 U.S.C. 1701z-1, 1701z-2. One part of HUD's established mission and responsibilities is to monitor family housing conditions and options. To evaluate the effectiveness of the programs that affect the conditions and options, HUD needs to collect participant data over time which includes the necessary contact and tracking information.

PURPOSE(S) OF THE SYSTEM:

This system is meant to provide HUD with a more in-depth understanding of the efficacy of RRH programs nationwide at both the program and participant levels.

CATEGORIES OF INDIVIDUALS COVERED BY THE SYSTEM:

Individuals covered by the system are voluntary participants in HUD-funded rapid re-housing programs and Continuums of Care and rapid re-housing program staff.

CATEGORIES OF RECORDS IN THE SYSTEM:

The specific types of records collected from study participants and maintained will include: Names, birth dates, home addresses, telephone numbers, personal email addresses, demographic information, income information, housing history, mental and physical health, and family status information.

RECORD SOURCE CATEGORIES:

This project includes five instruments for data collection: (1) Web Census for CoCs and Rapid Re-Housing Programs, (2) Interview Guide for Rapid Re-Housing Programs, (3) Rapid Re-housing Participant Interview Guide, (4) Rapid Re-housing Participant Follow-up Interview Guide, and (5) Quarterly Household Tracking Guide for Ethnographic Panel. Of these, the first two are program-level data collections and as such will include minimal personally identifiable information (PII), including only the name and contact information for the CoC Collaborative Applicant and RRH program staff person completing the survey. The Rapid Re-Housing Participant Interview Guide, Rapid Re-housing Participant Follow-up Interview Guide, and Quarterly Household Tracking Guide will collect information from participants via interview questions asked in person and recorded for this study. This information will be collected after obtaining written consent regarding participation and will be de-identified in the report. All of the data collection records containing PII will be destroyed at the end of the study period.

ROUTINE USES OF RECORDS MAINTAINED IN THE SYSTEM, INCLUDING CATEGORIES OF USERS AND PURPOSES OF SUCH USES:

In addition to those disclosures generally permitted under 5 U.S.C. Section 552a(b) of the Privacy Act, all or a portion of the records or information contained in this system may be disclosed outside HUD as a routine use pursuant to 5 U.S.C. 552a(b)(3) as follows:

To appropriate agencies, entities, and persons for disclosures compatible with the purpose for which the records in this system were collected, as set forth by Appendix I—HUD's Routine Use Inventory Notice, 80 FR 81837 (December 31, 2015).

1. To the National Archives and Records Administration or to the General Services Administration for records having enough historical or other value to warrant continued preservation by the United States Government, or for inspection under Title 44 U.S.C. 2904 and 2906.

2. To a congressional office from the record of an individual, in response to an inquiry from that congressional office made at the request of that individual.

3. To contractors performing or working under a contract with HUD, when necessary to accomplish an agency function related to this system of records. Disclosure requirements are limited to only those data elements considered relevant to accomplishing an agency function. Individuals provided information under these routine use conditions are subject to Privacy Act requirements and disclosure limitations imposed on the Department.

4. To the Department of Justice (DOJ) when seeking legal advice for a HUD initiative or in response to DOJ's request for the information, after either HUD or DOJ determine that such information relates to DOJ's representation of the United States or any other components in legal proceedings before a court or adjudicative body, provided that, in each case, the agency also determines prior to disclosure that disclosure of the records to DOJ is a use of the information in the records that is compatible with the purpose for which HUD collected the records. HUD on its own may disclose records in this system of records in legal proceedings before a court or administrative body after determining that the disclosure of the records to the court or administrative body is a use of the information contained in the records that is compatible with the purpose for which HUD collected the records.

5. To contractors, grantees, experts, consultants, Federal agencies, and non-Federal entities including but not limited to state and local governments, with whom HUD has a contract, service agreement, grant, or cooperative agreement for statistical analysis to advance the goals of the nation's federal strategic plan to prevent and end homelessness. The records may not be used to make decisions concerning the rights, benefits, or privileges of specific individuals, or providers of services with respect to a homeless individual's efforts.

6. To appropriate agencies, entities, and persons when: (a) HUD suspects or has confirmed that the security or confidentiality of information in a system of records has been compromised; (b) HUD has determined that, as a result of the suspected or confirmed compromise, there is a risk of harm to economic or property interests, identity theft or fraud, or harm to the security or integrity of systems or programs (whether maintained by HUD or another agency or entity) that rely upon the compromised information; and (c) the disclosure made to such agencies, entities, and persons is reasonably necessary to assist in connection with HUD's efforts to respond to the suspected or confirmed compromise and prevent, minimize, or remedy such harm for purposes of facilitating responses and remediation efforts in the event of a data breach.

POLICIES AND PRACTICES FOR STORAGE OF RECORDS:

Abt has implemented full disk encryption (FIPS 140-2 compliant) software in our environment to protect the storage of data, as well as a file transfer application (also FIPS 140-2 compliant), Huddle, for the secure, encrypted transmission of sensitive data such as PII and PHI to and from our clients and subcontractors. Huddle offers secure content collaboration to share data and is FedRAMP certified. Huddle encrypts data in-transit using TLS (128-bit or 256-bit encryption) and at rest with 256-bit AES.

Abt has also implemented anti-malware software in its environment and updates definitions daily on each workstation. For boundary protection, Abt has implemented Cisco ASA Firewalls.

Hard copy notes and other materials that are collected as part of the ethnographic work in Task 8 will be securely stored in locked file cabinets when not in use.

POLICIES AND PRACTICES FOR RETRIEVAL OF RECORDS:

During the course of the study, program-level records may be retrieved by program name or assigned unique identifier; participant-level records may be retrieved by assigned unique identifier.

POLICIES AND PRACTICES FOR RETENTION AND DISPOSAL OF RECORDS:

Abt Associates will retain all data collected over the life of the study and any analysis files generated with those data under conditions specified in the study protocol. At the end of the contract, Abt will destroy all PII per the contract terms. The retention and disposal procedures are in keeping with HUD's records management policies as described in 44 U.S.C. 3101 and 44 U.S.C. 3303. Abt Associates will submit all de-identified data to HUD at the end of the contract. The retention and disposal procedures are in keeping with HUD's records management policies as described in 44 U.S.C. 3101 and 44 U.S.C. 3303. Study participant PII to be retained for the length of the study (and then destroyed at the end of the contract period, in October 2019) includes the following:

• Name

• Birth date

• Home address

• Telephone number

• Personal email address

The retention and disposal procedures are in keeping with HUD's records management policies as described in section below: 2225.6 REV-1, Appendix 67, Records Disposition Schedule 67 PD&R, Item No. 5.

Disposition: Project case files reflecting a complete history of each project from initiation through research, development, design, testing, and demonstration will be retired to a Federal Records Center three years after satisfactory close of the project. Files will be destroyed six years after satisfactory close of the project (NARA Job NCl-207-78-6, Item 5). https://portal.hud.gov/hudportal/documents/huddoc?id=22256x67ADMH.pdf.

ADMINISTRATIVE, TECHNICAL, AND PHYSICAL SAFEGUARDS:

The contractor, Abt Associates, has a dedicated Analytic Computing Environment (ACE3) for storing ONLY sensitive information such as PII and PHI. Only authorized personnel can access this environment through a Virtual Private Network (VPN). Authentication to the system is done via Active Directory and DUO multi-factor authentication. Users connect to the system via remote desktop sessions (RDS). ACE3 is FISMA and FIPS 140-2 compliant.

To ensure data privacy and security, the Abt Confirmit Horizons web survey platform that will be used for the CoC and RRH program web survey allows for tight control over sampling, respondent recruitment, and data acquisition while addressing both data security and confidentiality concerns. Confirmit invests considerable time updating the software to ensure it has the latest technologies to boost security, performance, and reliability. Respondents will access the RRH web survey through Abt's website, where they are protected by Abt's strict data security system. HTTPS is enforced for transmission of all Confirmit Horizons credentials by Abt at the user level. All user accounts are named users linked to individual email addresses except for a translation account with extremely limited rights that is provided by the software vendor. Strong password policies are enforced, including minimum length, mixed case, special characters, and a password expiry after a set number of days. A password history is also kept to prevent passwords from being continuously reused. Accounts are locked by the system after 5 consecutive failed login attempts. Upon entering the 7-digit PIN assigned by the software, the respondent moves to a non-public directory inaccessible through the internet.

As data are entered, they are stored on a second non-public directory accessible only to the Abt system administrator. Partial responses are saved in this way. Once respondents finish the census and press the “Submit” button on the screen, the ID number used to access the survey becomes invalid and the instrument cannot be accessed again with that number. The SQL server databases that store respondent/response data are behind the firewall and data can only be accessed through the Horizons application by our named users. No application users can access the database directly, the servers are only accessible by our database administrators. Confirmit surveys are stateless and session-less. No user identifiable information is required when transmitting information between page submissions. A combination of hidden form fields and system generated identifiers can identify a respondent and the correct state when moving from page to page. Pages use metadata code to prevent them from being cached, and no information is stored on a respondent's computer when the browser is closed.

Abt takes every precaution to ensure that data collected on the internet remain both secure and confidential. All Abt data collection servers are housed in an AT&T Network Operations Center (NOC) with redundant power, expandable bandwidth, and a high level of physical security. All study staff are required to sign a confidentiality pledge stating that no data will be released to unauthorized personnel. In addition, all electronic data for the study are stored on the ACE3 system (described above).

Abt complies with the Privacy Act of 1974, Health Insurance Portability and Accountability Act of 1996 (HIPAA), and the E-Government Act of 2002, including Title III: Federal Information Security Management Act (FISMA), which covers site security, security control documentation, access control, change management, incident response, and risk management. Abt has implemented full disk encryption (FIPS 140-2 compliant) software in its environment to protect the storage of data, as well as a file transfer application (also FIPS 140-2 compliant), Huddle, for the secure, encrypted transmission of sensitive data such as PII and PHI to and from our clients and subcontractors. Huddle offers secure content collaboration to share data and is FedRAMP certified. Huddle encrypts data in-transit using TLS (128-bit or 256-bit encryption) and at rest with 256-bit AES.

Abt has also implemented anti-malware software in its environment and update definitions daily on each workstation. For boundary protection, Abt has implemented Cisco ASA Firewalls.

Hard copy notes and other materials that are collected as part of the ethnographic work in Task 8 will be securely stored in locked file cabinets when not in use.

RECORD ACCESS PROCEDURES:

For information, assistance, or inquiry about records, contact Marcus Smallwood, Acting, Chief Privacy Officer 451 Seventh Street SW, Room 10139, Washington, DC 20410, telephone number (202) 708-3054. When seeking records about yourself from this system of records or any other Housing and Urban Development (HUD) system of records, your request must conform with the Privacy Act regulations set forth in 24 CFR part 16. You must first verify your identity, meaning that you must provide your full name, address, and date and place of birth. You must sign your request, and your signature must either be notarized or submitted under 28 U.S.C. 1746, a law that permits statements to be made under penalty of perjury as a substitute for notarization. In addition, your request should:

a. Explain why you believe HUD would have information on you.

b. Identify which Office of HUD you believe has the records about you.

c. Specify when you believe the records would have been created.

d. Provide any other information that will help the Freedom of Information Act (FOIA), staff determine which HUD office may have responsive records.

If your request is seeking records pertaining to another living individual, you must include a statement from that individual certifying their agreement for you to access their records. Without the above information, the HUD FOIA Office may not conduct an effective search, and your request may be denied due to lack of specificity or lack of compliance with regulations.

CONTESTING RECORD PROCEDURES:

The Department's rules for contesting contents of records and appealing initial denials appear in 24 CFR part 16, Implementation of the Privacy Act of 1974. Additional assistance may be obtained by contacting Helen Goff Foster, Chief Privacy Officer, 451 Seventh Street SW, Room number 10139, Washington, DC 20410. Individuals desiring to contest records may also refer to the HUD Privacy Act Handbook available on the website: https://portal.hud.gov/hudportal/HUD?src=/program_offices/administration/hudclips/handbooks/admh/1325.1.

NOTIFICATION PROCEDURES:

Individuals wishing to determine whether this system of records contains information about them may do so by contacting HUD's Privacy Office or Freedom of Information Act Office at the addresses above.

EXEMPTIONS PROMULGATED FOR THE SYSTEM:

None

HISTORY:

Not applicable. This is a new SORN.

Dated: December 11, 2017.
Helen Goff Foster
Senior Agency Official for Privacy.

[FR Doc. 2017-27767 Filed 12-22-17; 8:45 am]

BILLING CODE 4210-67-P